DEPARTMENT OF THE INTERIOR

National Park Service

[DOI-2022-0014; PPWONRADD7/PPMRSNR1Y.NM0000]

Privacy Act of 1974; System of Records

AGENCY: National Park Service, Interior.

ACTION: Notice of a new system of records.

SUMMARY: Pursuant to the provisions of the Privacy Act of 1974, as amended, the Department of the Interior (DOI) is issuing a public notice of its intent to create the National Park Service (NPS) system of records, INTERIOR/NPS-26, Integrated Resource Management Applications. This system consists of applications that manage and deliver resource information to parks, partners, and the public. This newly established system will be included in DOI's inventory of record systems.

DATES: This new system will be effective upon publication. New routine uses will be effective May 24, 2023. Submit comments on or before May 24, 2023.

ADDRESSES: You may send comments identified by docket number [DOI-2022-0014] by any of the following methods:

• Federal eRulemaking Portal: https://www.regulations.gov. Follow the instructions for sending comments.

• Email: DOI_Privacy@ios.doi.gov. Include docket number [DOI-2022-0014] in the subject line of the message.

• U.S. mail or hand-delivery: Teri Barnett, Departmental Privacy Officer, U.S. Department of the Interior, 1849 C Street NW, Room 7112, Washington, DC 20240.

Instructions: All submissions received must include the agency name and docket number [DOI-2022-0014]. All comments received will be posted without change to https://www.regulations.gov, including any personal information provided.

Docket: For access to the docket to read background documents or comments received, go to https://www.regulations.gov.

FOR FURTHER INFORMATION CONTACT: Felix Uribe, Associate Privacy Officer, National Park Service, 12201 Sunrise Valley Drive, Reston, VA 20192, nps_privacy@nps.gov or (202) 354-6925.

SUPPLEMENTARY INFORMATION:

I. Background

NPS is establishing the INTERIOR/NPS-26, Integrated Resource Management Applications, system of records. The Integrated Resource Management Applications (IRMA) is a web-based “one-stop” solution that provides park resource-related tools, data and information, including reports and other documents, data sets, species lists, and visitor use statistics, to help NPS Resource Managers make informed resource management decisions and to share natural resource data and research with members of the public. IRMA allows NPS to streamline and simplify how park resource data are entered, managed, discovered, and shared, and enables individuals to participate in natural resource conservation and research activities of parks and protected areas managed by the NPS.

IRMA subsystems allow users to find and download documents and datasets about natural and cultural resources in the parks; report and view invasive plant management data with the NPS system designed to standardize the collection of infestation and treatment data; enter and find Visual Resource Inventory records of scenic values and importance to NPS visitor experience and interpretive goals; get species lists with the occurrence and status of species in more than 300 NPS national parks; find species' common and scientific names, synonyms, and their associated taxonomic classification; retrieve comprehensive graphs, reports, and statistics on historic, current, or forecast park visitor use; search for names, codes, and affiliations of NPS units (parks, monuments, historic sites, regions, offices, etc.); and obtain interactive data driven reports for many NPS programs. Personally identifiable information (PII) may be collected from users conducting research or requesting information on park resources and preservation activities, authors of finalized documents, datasets and scientific products that are used to support natural resources research and reporting and to ensure proper citation of the authors, and from individuals reporting natural resources action(s) taken, such as an invasive species treatment or sampling collection. The information is used to support research and analysis of information to assess accuracy or determine need for further study and to facilitate communication between NPS and research partners and members of the public. To the extent permitted by law, information may be shared with Federal, state, local, and tribal agencies, and organizations as authorized and compatible with the purpose of this system, or when proper and necessary, consistent with the routine uses set forth in this system of records notice.

This notice does not cover the Research Permit and Reporting System (RPRS) that is also hosted within IRMA. RPRS provides information to parks, partners, and the public on applications for scientific studies and field work conducted in parks associated with the NPS Scientific Research and Collecting Permit, which is covered under the INTERIOR/NPS-25, Research Permit and Reporting System (RPRS), system of records notice (87 FR 33203, June 1, 2022).

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The INTERIOR/NPS-26, Integrated Resource Management Applications, system of records notice is published in its entirety below. In accordance with 5 U.S.C. 552a(r), DOI has provided a report of this system of records to the Office of Management and Budget and to Congress.

III. Public Participation

You should be aware your entire comment including your PII, such as your address, phone number, email address, or any other personal information in your comment, may be made publicly available at any time. While you may request to withhold your PII from public review, we cannot guarantee we will be able to do so.

SYSTEM NAME AND NUMBER:

INTERIOR/NPS-26, Integrated Resource Management Applications.

SECURITY CLASSIFICATION:

Unclassified.

SYSTEM LOCATION:

National Information Service Center, National Park Service, 12795 West Alameda Parkway, Lakewood, CO 80228.

SYSTEM MANAGER(S):

Data and Systems Officer, Natural Resource Stewardship and Science Directorate, Immediate Office of the Associate Director, National Park Service, 1201 Oakridge Drive, Suite 200, Fort Collins, CO 80525.

AUTHORITY FOR MAINTENANCE OF THE SYSTEM:

54 U.S.C. 100101, Promotion and regulation; 54 U.S.C. 100701, Protection, Interpretation, and Research in System; 54 U.S.C. 100704, Inventory and Monitoring Program; 54 U.S.C. 100705, Availability of System Units for Scientific Study; 54 U.S.C. 100707, Confidentiality of Information; 54 U.S.C. 100751, Regulations; 36 CFR 1.6, Permits; 36 CFR 2.1, Preservation of Natural, Cultural and Archeological Resources; and 36 CFR 2.5, Research Specimens.

PURPOSE(S) OF THE SYSTEM:

The primary purpose of the system is to streamline and simplify how park resource data are entered, managed, discovered, and shared. This data is representative of resource conditions and status of parks and protected areas managed by NPS. Project management and data workflows are also facilitated through the IRMA subsystems to ensure data and associated materials are available for resource management decisions.

CATEGORIES OF INDIVIDUALS COVERED BY THE SYSTEM:

Individuals covered by the system include DOI employees, contractors, and volunteers; other Federal, state, or local government agency employees; partners of NPS that are involved in projects; universities, tribal communities and members of the public providing resource information or involved in projects related to conservation planning and NPS resource management. This system contains records concerning corporations and other business entities, which are not subject to the Privacy Act. However, records pertaining to individuals acting on behalf of corporations and other business entities may reflect personal information.

CATEGORIES OF RECORDS IN THE SYSTEM:

The system contains records describing or summarizing resource conditions in parks and protected areas managed by the NPS. Workflows established for decision-making or compliance with Federal rules and their associated documentation requirements are also moderated through IRMA applications. This data may include name, personal cell phone number and email address, mailing and home address, business email address, group or organizational affiliation, employment information, location information may be included with the first name and last name as incidental information regarding the geographic location of a specific action taken, such as the location of a study, invasive species treatment or sampling collection; and username, password, and answers to security questions for the creation and management of user accounts and to allow registered users to interact with NPS.

RECORD SOURCE CATEGORIES:

Records in IRMA are obtained from DOI employees, contractors and volunteers, other Federal, state, tribal, local government agency employees, contractors and volunteers, partners of NPS that are involved in projects, members of the public, and other individuals involved with projects related to conservation planning NPS resource management.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and

Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To authorized members of Federal, State, Local and Tribal agencies to share information on natural, cultural, and socioeconomic data such as species observations, research reports, environmental impact statements, mineral lands inventories and environmental and cultural compliance data for the purpose of supporting resource management decisions.

POLICIES AND PRACTICES FOR STORAGE OF RECORDS:

Electronic records are contained in computers, magnetic disks, computer tapes, removable drives, email, and electronic databases. Paper records are contained in file folders stored in file cabinets. Access is restricted through physical controls and system security practices.

POLICIES AND PRACTICES FOR RETRIEVAL OF RECORDS:

Records in this system can be retrieved by either querying within the application or generating a report. The information may be retrieved by various fields including name, personal email address, business contact information, and group or organizational affiliation.

POLICIES AND PRACTICES FOR RETENTION AND DISPOSAL OF RECORDS:

Records are retained in accordance with the NPS Records Schedule, Resource Management and Lands (Item 1), which has been approved by NARA (Job No. N1-79-08-1). The disposition of Cultural and Natural Resource Management Program and Planning records, including applications for permits, permits and investigator annual reports, is permanent. Periodic transfer of special media and electronic records along with any finding aids or descriptive information (including linkage to the original file) and related documentation by calendar year are transmitted to NARA when 3 years old. Final transfer of all permanent records to NARA occurs 15 years after closure. Digital records will be transferred according to standards applicable at the time.

The disposition of records with short-term operational value and not considered essential for ongoing management of land, cultural and natural resources is temporary, including account management records. These operational records are destroyed/deleted 15 years after closure. The disposition for routine housekeeping and supporting documentation is temporary and records are destroyed/deleted 3 years after closure. Detailed disposition procedures and processes are defined and published to internal system administration staff within the IRMA technical reference manuals.

Workflows are in place to manage the disposition of permanent records in conformance with requisite retention schedules. Periodic transfer is accomplished through delivery of permanent special media and electronic records along with any finding aids or descriptive information (including linkage to the original file) and related documentation by calendar year to the NARA when 3 years old.

ADMINISTRATIVE, TECHNICAL, AND PHYSICAL SAFEGUARDS:

The records contained in this system are safeguarded in accordance with 43 CFR 2.226 and other applicable security and privacy rules and policies. Computer servers on which electronic records are stored are in secured DOI controlled facilities with physical, technical, and administrative levels of security to prevent unauthorized access to the DOI network and information assets. Access to the NPS data on the internal IRMA website address is limited to authorized NPS users. Access granted to authorized personnel is password-protected, and each person granted access to the system must be individually authorized to use the system. A Privacy Act Warning Notice appears on computer monitor screens when records containing information on individuals are first displayed. Data exchanged between the servers and the system is encrypted. Backup tapes are encrypted and stored in a locked and controlled room in a secure, off-site location.

Computerized records systems follow the National Institute of Standards and Technology privacy and security standards as developed to comply with the Privacy Act of 1974, as amended, 5 U.S.C. 552a; Paperwork Reduction Act of 1995, 44 U.S.C. 3501 et seq.: Federal Information Security Modernization Act of 2014, 44 U.S.C. 3551 et seq.: and the Federal Information Processing Standards 199: Standards for Security Categorization of Federal Information and Information Systems. Database tables are kept on separate file servers away from general file storage and other local area network usage. The data itself is stored in a password-protected, client-server database. Electronic transmissions of records are encrypted, and password protected. Security measures establish access levels for different types of users. Security controls include user identification, passwords, database permissions, encryption, firewalls, audit logs, and network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior. A Privacy Impact Assessment was conducted to ensure that Privacy Act requirements are met and appropriate privacy controls were implemented to safeguard the personally identifiable information contained in the system.

RECORD ACCESS PROCEDURES:

An individual requesting access to their records should send a written inquiry to the applicable System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requestor's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requestor's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requestor's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

None.

Teri Barnett,
Departmental Privacy Officer, Department of the Interior.

[FR Doc. 2023-08599 Filed 4-21-23; 8:45 am]

BILLING CODE 4312-52-P